DEPARTMENT OF ENERGY

Federal Energy Regulatory Commission

Combined Notice of Filings #1

Take notice that the Commission received the following electric rate filings:

Docket Numbers: ER16-835-001.

Applicants: Power Authority of the State of New York, New York Independent System Operator, Inc.

Description: Compliance filing: NYPA NTAC compliance with settlement to be effective 4/1/2016.

Filed Date: 2/2/17.

Accession Number: 20170202-5230.

Comments Due: 5 p.m. ET 2/23/17.

Docket Numbers: ER16-1751-001.

Applicants: New York Independent System Operator, Inc.

Description: Compliance filing: Notice of effective date for DCR Process provisions in MST 23 to be effective 2/16/2017.

Filed Date: 2/2/17.

Accession Number: 20170202-5228.

Comments Due: 5 p.m. ET 2/23/17.

Docket Numbers: ER17-725-001.

Applicants: PJM Interconnection, L.L.C.

Description: Tariff Amendment: Errata to amend certain OATT Schedule 12-Appendix sections submitted in ER17-725 to be effective 1/1/2017.

Filed Date: 2/2/17.

Accession Number: 20170202-5208.

Comments Due: 5 p.m. ET 2/23/17.

Docket Numbers: ER17-922-000.

Applicants: Arizona Public Service Company.

Description: Cancellation of Service Agreement Nos. 91, 137, and 144 of Arizona Public Service Company.

Filed Date: 2/2/17.

Accession Number: 20170202-5238.

Comments Due: 5 p.m. ET 2/23/17.

Docket Numbers: ER17-923-000.

Applicants: Ashley Energy LLC.

Description: Baseline eTariff Filing: Application for Market Based Rate Tariff to be effective 2/20/2017.

Filed Date: 2/3/17.

Accession Number: 20170203-5043.

Comments Due: 5 p.m. ET 2/24/17.

Docket Numbers: ER17-924-000.

Applicants: Wisconsin Electric Power Company.

Description: § 205(d) Rate Filing: Wisconsin Electric Assignment of FERC Rate Schedule 106 020317 to be effective 2/4/2017.

Filed Date: 2/3/17.

Accession Number: 20170203-5064.

Comments Due: 5 p.m. ET 2/24/17.

Docket Numbers: ER17-925-000.

Applicants: ISO New England Inc., New England Power Pool Participants Committee.

Description: § 205(d) Rate Filing: Part 1 of Two-Part Filing to Remove Active Demand Resource Types to be effective 2/24/2017.

Filed Date: 2/3/17.

Accession Number: 20170203-5069.

Comments Due: 5 p.m. ET 2/24/17.

Docket Numbers: ER17-926-000.

Applicants: PJM Interconnection, L.L.C.

Description: § 205(d) Rate Filing: Original Service Agreement No. 4608; Queue No. AB1-027 to be effective 1/4/2017.

Filed Date: 2/3/17.

Accession Number: 20170203-5080.

Comments Due: 5 p.m. ET 2/24/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 3, 2017.
Kimberly D. Bose,
Secretary.

[FR Doc. 2017-02952 Filed 2-13-17; 8:45 am]

BILLING CODE 6717-01-P